DEPARTMENT OF AGRICULTURE

Rural Utilities Service

Household Water Well System Program Programmatic Environmental Assessment

AGENCY: Rural Utilities Service, USDA.

ACTION: Notice of availability of a programmatic environmental assessment.

SUMMARY: The Rural Utilities Service (RUS), an agency delivering the U.S. Department of Agriculture's Rural Development Utilities Program, has prepared a Programmatic Environmental Assessment (PEA) for a new grant program that will implement the Household Water Well System Program (HWWSP) lending program. The PEA is available for a 30-day public review and comment period. Subsequent to the comment period RUS plans to issue a finding of no significant impact.

DATES: RUS will accept public comments until November 1, 2004.

FOR FURTHER INFORMATION CONTACT: Mark S. Plank, Senior Environmental Scientist, RUS, Water and Environmental Programs, Engineering and Environmental Staff, 1400 Independence Avenue, SW., Stop 1571, Washington, DC 20250-1571, telephone: (202) 720-11649 or e-mail: mark.plank@usda.gov. Copies of the PEA may be obtained by contacting Mr. Plank.

SUPPLEMENTARY INFORMATION: On May 13, 2002, the Farm Security and Rural Investment Act of 2002 (Farm Bill) was signed into law as Public Law 107-171. Section 6012 of the Farm Bill amended section 306E of the Consolidated Farm and Rural Development Act (CONACT) by adding a grant program to establish a lending program. The program will provide grants to private nonprofit organizations for the purpose of providing loans to eligible individuals for the construction, refurbishing, and servicing of individual household water well systems in rural areas that are or will be owned by the eligible individuals. The program is called the Household Water Well System Program (HWWSP). This program was authorized to appropriate up to $10,000,000 for Fiscal Years (FY) 2003 through 2007. There was no funding appropriated in FY 2003. However, the Consolidated Appropriations Act, 2004 (Pub. L. 108-199), includes $1,000,000 for the program.

The USDA, RUS, is issuing regulations to implement the HWWSP. The final rule outlines the procedures for providing grants to eligible applicants to establish a revolving loan fund and to pay reasonable administrative expenses. The revolving loan fund will be used to make loans to eligible applicants for the construction, refurbishing, and servicing of individual household water well systems in rural areas that are or will be owned by the eligible individuals. The CONACT defines an “eligible individual” as a person who is a member of a household in which all members have a combined income that is 100 percent or less of the median non-metropolitan household income for the State or territory in which the person resides. The combined household income must be for the most recent 12-month period for which the information is available, according to the most recent decennial census of the United States. The maximum statutory limit per loan per household water well system is $8,000.

Certain financing actions taken by RUS are classified as Federal actions subject to compliance with NEPA, the Council on Environmental Quality (CEQ), Regulations for implementing the Procedural Provisions of NEPA (40 CFR parts 1500-1508), and RUS Environmental Policies and Procedures (7 CFR part 1794). There are two Federal actions under the new HWWSP program being considered in this PEA: (1) Grants awarded by RUS to eligible grant recipients and (2) loans made by the grant recipient to eligible loan recipients using the direct or indirect proceeds of a HWWSP grant awarded under this program.

The level of RUS environmental reviews for agency actions are categorized in 7 CFR part 1794, subpart C, Classification of Proposals. Both agency actions for the HWWSP program are classified in 7 CFR 1794 as categorical exclusions. The first action (grant award) is classified under 7 CFR 1794.21(c)(3) categorically excluded proposals without an Environmental Report. The second (loan approvals) action is classified under 7 CFR 1794.22(b)(1) categorically excluded proposals requiring an Environmental Report.

Due to similar project activities and a limited area of potential effect of most HWWSP loan approval actions, RUS finds that a programmatic environmental analysis of the new HWWSP will reduce paperwork, duplication of effort, and promote a more efficient decision-making process for program implementation. RUS reserves the right to update this programmatic analysis to take additional information into account or develop particular elements of the analysis more fully as may be warranted in individual circumstances.

In summary, RUS has determined that the implementation of the HWWSP will not significantly affect the human or natural environment. However, to minimize any potential for adverse effects to specific environmental resources grant recipients will be required to comply with the following mitigation measures. These mitigation measures will be incorporated in executed grant agreements.

1. Floodplains

The grant recipient will complete FEMA Form 81-93, Standard Flood Hazard Determination Form for all loans. If a household is located in a special flood hazard area (Code A and V), the revolving loan fund recipient must have flood insurance and the grantee shall obtain flood insurance certifications as part of the revolving loan fund closing process.

2. Water Quality Issues

HWSPHWWSP funded projects will be built by contractors that are appropriately licensed to do the work in the State where the project is located. Water withdrawal permits will be obtained as required by the appropriate State or local regulatory agency.

3. Coastal Resources

The grant recipient will obtain written approval from the U. S. Fish and Wildlife Service before approving any proposed loans located in Coastal Barrier Resources System units.

Dated: September 24, 2004.
Gary J. Morgan,
Assistant Administrator, Water and Environmental Programs, Rural Utilities Service.

[FR Doc. 04-21886 Filed 9-29-04; 8:45 am]

BILLING CODE 3410-15-P